DEPARTMENT OF COMMERCE

International Trade Administration

[A-533-843]

Certain Lined Paper Products From India: Final Results of Antidumping Duty Administrative Review and Final Determination of No Shipments; 2020-2021

AGENCY: Enforcement and Compliance, International Trade Administration, Department of Commerce.

SUMMARY: The U.S. Department of Commerce (Commerce) determines that Cellpage Ventures Private Limited (Cellpage) made sales of certain lined paper products from India at prices below normal value, and Navneet Education Ltd. (Navneet) did not, during the period of review (POR) September 1, 2020, through August 31, 2021.

DATES: Applicable April 12, 2023.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On October 6, 2022, Commerce published the Preliminary Results for this review in the Federal Register and invited interested parties to comment on those results.¹ For a summary of the events that occurred since the Preliminary Results, see the Issues and Decision Memorandum.² Commerce conducted this administrative review in accordance with section 751 of the Tariff Act of 1930, as amended (the Act).

¹ See Certain Lined Paper Products from India: Preliminary Results of Antidumping Duty Administrative Review; Rescission of Administrative Review, in Part; and Preliminary Determination of No Shipments; 2020-2021, 87 FR 60650 (October 6, 2022) (Preliminary Results), and accompanying Preliminary Decision Memorandum (PDM).

² See Memorandum, “Issues and Decision Memorandum for the Final Results of the Antidumping Duty Administrative Review of Certain Lined Paper from India; 2020-2021,” dated concurrently with, and hereby adopted by, this notice (Issues and Decision Memorandum).

Scope of the Order ³

³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

The products covered by this Order are certain lined paper products from India. For a complete description of the scope, see the Issues and Decision Memorandum.

Final Determination of No Shipments

As noted in the Preliminary Results, we received no-shipment claims from Dinakar Process Private Limited (Dinakar), JC Stationery (P) Ltd (JC Stationery), and M/s. Bhaskar Paper Products (Bhaskar), and we preliminarily determined that Dinakar, JC Stationery, and Bhaskar had no shipments during the POR.⁴ Following the publication of the Preliminary Results, we received no comments from interested parties regarding Dinakar, JC Stationery, and Bhaskar, nor has any party submitted record evidence which would call our preliminary determinations of no shipments for these three companies into question. Therefore, for the final results, we continue to find that Dinakar, JC Stationery, and Bhaskar had no shipments of subject merchandise during the POR. Accordingly, consistent with Commerce's practice, we intend to instruct U.S. Customs and Border Protection (CBP) to liquidate any existing entries of merchandise produced by Dinakar, JC Stationery, and Bhaskar, but exported by other parties, at the rate for the intermediate reseller, if available, or at the all-others rate.⁵

⁴ See Preliminary Results, 87 FR at 60651.

⁵ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Application of Adverse Facts Available

For these final results, we continue to find that Magic International Pvt. Ltd. and Marisa International withheld information requested by Commerce, failed to provide the requested information in a timely manner, and significantly impeded the proceeding, warranting a determination on the basis of the facts available under section 776(a) of the Act. Therefore, we continue to find that Magic International Pvt. Ltd. and Marisa International have not acted to the best of their ability and the application of adverse facts available, pursuant to section 776(b) of the Act, is warranted. No parties submitted comments regarding our preliminary determination to apply adverse facts available to Magic International Pvt. Ltd. and Marisa International.

Rates for Companies Not Selected for Individual Examination

For the rate for non-selected respondents in an administrative review, generally, Commerce looks to section 735(c)(5) of the Act, which provides instructions for calculating the all-others rate in a market economy investigation. Under section 735(c)(5)(A) of the Act, the all-others rate is normally “an amount equal to the weighted average of the estimated weighted average dumping margins established for exporters and producers individually investigated, excluding any zero or de minimis margins, and any margins determined entirely {on the basis of facts available}.” In this segment of the proceeding, for the companies not selected for individual review, we calculated a rate for Cellpage only which is not zero, de minimis, or determined entirely on adverse facts available. Accordingly, Commerce is assigning Cellpage's rate to companies not selected for individual examination, which are listed below.

Analysis of Comments Received

All issues raised in the case and rebuttal briefs are addressed in the Issues and Decision Memorandum. A list of the issues that parties raised and to which we responded in the Issues and Decision Memorandum is attached at Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the margin calculation for Cellpage. For a discussion of these changes, see the Issues and Decision Memorandum.⁶

⁶ See Issues and Decision Memorandum at Comment 1.

Final Results of the Review

Commerce determines that the following weighted-average dumping margins exist for the period September 1, 2020, through August 31, 2021:

Exporter/producer | Weighted- average dumping margin (percent)
Cellpage Ventures Private Limited | 2.63
Navneet Education Ltd. | 0.00
Goldenpalm Manufacturers PVT Limited | 2.63
ITC Limited-Education and Stationary Products Business | 2.63
Lotus Global Private Limited | 2.63
Pioneer Stationery Pvt. Ltd. | 2.63
PP Bafna Ventures Private Limited | 2.63
Magic International Pvt. Ltd. | 215.93
Marisa International | 215.93

Disclosure

Commerce intends to disclose the calculations performed for these final results to interested parties in this review under administrative protective order within five days after the date of publication of this notice in the Federal Register, in accordance with 19 CFR 351.224(b). Because there were no changes to Navneet's calculations for the final results, we do not have revised calculations to disclose for Navneet.

Assessment Rate

Pursuant to section 751(a)(2)(A) of the Act and 19 CFR 351.212(b)(1), Commerce will determine, and CBP shall assess, antidumping duties on all appropriate entries of subject merchandise in accordance with the final results of this review. Pursuant to 19 CFR 351.212(b)(1), for Cellpage and Navneet, we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR for which the examined companies did not know that the merchandise they sold to an intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered entered, or withdrawn from warehouse, for consumption on or after the date of the final results of this administrative review, as provided for by section 751(a)(2)(C) of the Act: (1) the cash deposit rates for the companies identified above in the “Final Results of Review” section will be equal to the company-specific weighted-average dumping margin established in the final results of this administrative review; for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 3.91 percent, the all-others rate established in the investigation of this proceeding.⁷ These cash deposit requirements, when imposed, shall remain in effect until further notice.

⁷ See Order.

Notification to Importers

This notice serves as a final reminder to importers of their responsibility under 19 CFR 351.402(f)(2) to file a certificate regarding the reimbursement of antidumping duties and/or countervailing duties prior to liquidation of the relevant entries during this POR. Failure to comply with this requirement could result in the Commerce's presumption that reimbursement of antidumping and/or countervailing duties has occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: April 4, 2023.
Abdelali Elouaradia,
Deputy Assistant Secretary for Enforcement and Compliance.

Appendix

List of Topics Discussed in the Issues and Decision Memorandum

I. Summary

II. Background

III. Scope of the Order

IV. Analysis of Comments

Comment 1: Whether Commerce Should Use Cellpage's Largest Third Country Market, Afghanistan, to Calculate Normal Value

Comment 2: Whether Commerce Should Include Certain Expenses in Cellpage's General and Administrative (G&A) Expense Ratio

Comment 3: Whether Commerce Should Include Certain Expenses from Affiliated Service Providers in Navneet's G&A Expenses

Comment 4: Whether Commerce Should Allocate Navneet Trust's Expenses to Navneet's G&A Expenses

Comment 5: Whether Navneet's E-Commerce Sales Were Made at the Same Level of Trade as its Home Market Sales in Channels Two, Three, Four, and Five

V. Recommendation

[FR Doc. 2023-07623 Filed 4-11-23; 8:45 am]

BILLING CODE 3510-DS-P